FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 9, 2007.

A. Federal Reserve Bank of Kansas City (Todd Offenbacker, Assistant Vice President) 925 Grand Avenue, Kansas City, Missouri 64198-0001:

1. The Burns Group consisting of R. Dean Phillips, individually and as a member of the Burns Group; Janice Sauvage, as trustee of the Janice Sauvage Trust No. 2; the Janice Sauvage Trust No. 2, individually and as a member of the Burns Group; and Philip M. Burns, all of Las Vegas, Nevada; to acquire voting shares of First Financial Services, Inc., and thereby indirectly acquire voting shares of First National Bank and Trust Company, both of Falls City, Nebraska.

Board of Governors of the Federal Reserve System, October 22, 2007.
Robert deV. Frierson,
Deputy Secretary of the Board.

[FR Doc. E7-20992 Filed 10-24-07; 8:45 am]

BILLING CODE 6210-01-S